FEDERAL COMMUNICATIONS COMMISSION

47 CFR Part 73

[DA 00-834; MM Docket No. 99-6; RM-9431, RM-9596]

Radio Broadcasting Services; St. Johnsbury and Barton, VT

AGENCY: Federal Communications Commission.

ACTION: Final rule.

SUMMARY: The Commission, at the request of Vermont Broadcast Associates, Inc., allots Channel 262A to Barton, VT, as the community's first local aural service and denies the request of Dana Puopolo to allot Channel 262A to St. Johnsbury, VT, as the community's second local FM and third local aural service. See 64 FR 5624, February 4, 1999. Channel 262A can be allotted to Barton in compliance with the Commission's minimum distance separation requirements, with respect to domestic allotments, without the imposition of a site restriction, at coordinates 44-44-54 North Latitude and 72-10-36 West Longitude. Barton is located within 320 kilometers (200 miles) of the U.S.-Canadian border and use of these coordinates does not negate the short-spacings to the proposed allotment of Channel 262A at Sherbrook, Quebec, and the vacant and proposed to be deleted Channel 262A at Magog, Quebec, Canada. Canadian concurrence in the allotment of Channel 262A at Barton, as a specially-negotiated short-spaced allotment, has been requested but has not yet been received. However, rather than delay any further the opportunity to file applications for this channel, we will allot Channel 262A to Barton at this time. If a construction permit is granted prior to the receipt of formal concurrence in the allotment by the Canadian Government, the construction permit will include the following condition: “Operation with the facilities specified herein is subject to modification, suspension, or termination without right to hearing, if found by the Commission to be necessary in order to conform to the Canada-United States FM Broadcast Agreement or if specifically objected to by Industry Canada.” A filing window for Channel 262A at Barton will not be opened at this time. Instead, the issue of opening a filing window for this channel will be addressed by the Commission in a subsequent order.

DATES: Effective May 30, 2000.

FOR FURTHER INFORMATION CONTACT: Leslie K. Shapiro, Mass Media Bureau, (202) 418-2180.

SUPPLEMENTARY INFORMATION: This is a synopsis of the Commission's Report and Order, MM Docket No. 99-6, adopted April 5, 2000, and released April 14, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

PART 73—[AMENDED]

1. The authority citation for Part 73 continues to read as follows:

Authority: 47 U.S.C. 154, 303, 334. 336.

§ 73.202 [Amended]

2. Section 73.202(b), the Table of FM Allotments under Vermont, is amended by adding Barton, Channel 262A.

Federal Communications Commission.
John A. Karousos,
Chief, Allocations Branch, Policy and Rules Division, Mass Media Bureau.

[FR Doc. 00-10923 Filed 4-28-00; 8:45 am]

BILLING CODE 6712-01-P